ENVIRONMENTAL PROTECTION AGENCY

[EPA-HQ-OPP-2009-0091; FRL-8806-8]

Issuance of an Experimental Use Permit

AGENCY: Environmental Protection Agency (EPA).

ACTION: Notice.

SUMMARY: EPA has granted an experimental use permit (EUP) to the following pesticide applicant. An EUP permits use of a pesticide for experimental or research purposes only in accordance with the limitations in the permit.

FOR FURTHER INFORMATION CONTACT: Susanne Cerrelli, Biopesticides and Pollution Prevention Division (7511P), Office of Pesticide Programs, Environmental Protection Agency, 1200 Pennsylvania Ave., NW., Washington, DC 20460-0001; telephone number: (703) 308-8077; e-mail address: cerrelli.susanne@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the person listed under FOR FURTHER INFORMATION CONTACT.

B. How Can I Get Copies of this Document and Other Related Information?

EPA has established a docket for this action under docket identification (ID) number EPA-HQ-OPP-2009-0091. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. EUP

EPA has issued the following EUP:

29964-EUP-6 —Issuance. Pioneer Hi-Bred International, Incorporated, 2450 Southeast Oak Tree Court, Ankeny, IA 50021. This EUP allows the use of the following plant-incorporated protectants:

1. Bacillus thuringiensis Cry1F protein and the genetic material necessary (vector PHP8999) for its production in corn event TC1507 [Organization for Economic Cooperation and Development (OECD) Unique Identifier: DAS-01507-1]

2. Bacillus thuringiensis Cry34Ab1 and Cry35Ab1 proteins and the genetic material necessary (vector PHP17662) for their production in corn event DAS-59122-7 (OECD Unique Identifier: DAS-59122-7)

3. Bacillus thuringiensis Cry1Ab delta-endotoxin protein and the genetic material necessary (vector pZO1502) for its production in corn event Bt11 (OECD Unique Identifier: SYN-BT011-1)

4. Bacillus thuringiensis Cry1Ab delta-endotoxin protein and the genetic material necessary (vector PV-ZMCT01) for its production in corn event MON 810 (OECD Unique Identifier: MON-00810-6)

5. Bacillus thuringiensis Vip3Aa20 insecticidal protein and the genetic material necessary (vector pNOV1300) in corn event MIR162 (OECD Unique Identifier: SYN-IR162-4)

6. Bacillus thuringiensis mCry3A protein and the genetic material necessary (vector pZM26) in corn event MIR604 (OECD Unique Identifier: SYN-IR604-5)

These plant-incorporated protectants will be planted in the following combinations:

• TC1507 x DAS-59122-7 x MON 810

• TC1507 x MON 810

• DAS-59122-7 x MON 810

• TC1507

• DAS-59122-7

• MON 810

• TC1507 x DAS-59122-7

• Bt11

• MIR604

• MIR162

• Bt11 x MIR604

• Bt11 x MIR162

• Bt11 x MIR162 x MIR604

• TC1507 x DAS-59122-7 x MON 810 x MIR162

• TC1507 x DAS-59122-7 x MON 810 x MIR604

• TC1507 x DAS-59122-7 x MIR162 x MIR604

• TC1507 x MON 810 x MIR162 x MIR604

• DAS-59122-7 x MON 810 x MIR162 x MIR604

• TC1507 x DAS-59122-7 x MIR162

• TC1507 x DAS-59122-7 x MIR604

• TC1507 x MON 810 x MIR162

• TC1507 x MON 810 x MIR604

• TC1507 x MIR162 x MIR604

• DAS-59122-7 x MON 810 x MIR162

• DAS-59122-7 x MON 810 x MIR604

• DAS-59122-7 x MIR162 x MIR604

• MON 810 x MIR162 x MIR604

• TC1507 x MIR162

• TC1507 x MIR604

• DAS-59122-7 x MIR162

• DAS-59122-7 x MIR604

• MON 810 x MIR162

• MON 810 x MIR604

• MIR162 x MIR604

The quantity authorized equates to 68,066 pounds of corn seed [containing 62 grams (0.137 pounds) of Cry1F protein, 787 grams (1.74 pounds) of Cry34Ab1 and Cry35Ab1 proteins, 27 grams (0.060 pounds) of Cry1Ab protein, 347 grams (0.765 pounds) of Vip3Aa20 protein, and 11 grams (0.024 pounds) of mCry3A protein] on 4,126 acres. The program is authorized only in the Commonwealth of Puerto Rico and the States of Arkansas, California, Colorado, Delaware, Georgia, Hawaii, Iowa, Illinois, Indiana, Kansas, Kentucky, Louisiana, Michigan, Minnesota, Missouri, Mississippi, North Carolina, Nebraska, New York, Ohio, Oklahoma, Pennsylvania, South Dakota, Tennessee, Texas, Washington, and Wisconsin. The EUP is effective from April 22, 2009, to March 31, 2010, and allows for trial protocols—concentrating on nursery/breeding observation, yield and agronomic evaluation, efficacy, insect resistance management, seed production, and regulatory studies—to be conducted. Under 40 CFR Part 174, permanent exemptions from tolerance have been established for residues of each of the active ingredients in or on all corn commodities.

Authority: 7 U.S.C. 136c.

List of Subjects

Environmental protection, Experimental use permits.

Dated: January 7, 2010.
Keith A. Matthews,
Acting Director, Biopesticides and Pollution Prevention Division, Office of Pesticide Programs.

[FR Doc. 2010-956 Filed 1-19-10; 8:45 am]

BILLING CODE 6560-50-S